DEPARTMENT OF JUSTICE

Notice of Lodging Proposed Consent Decree

In accordance with Departmental Policy, 28 CFR 50.7, notice is hereby given that a proposed consent decree in United States v. Stephen Jacobs and Doug Steve, case No. 02 C 8998, was lodged with the United States District Court for the Northern District of Illinois on August 19, 2003. This proposed Consent Decree concerns a complaint filed by the United States against Stephen Jacobs and Doug Steve, pursuant to section 301(a) of the Clean Water Act (“CWA”), 33 U.S.C. 1311(a) and section 10 of the Rivers and Harbors Appropriation Act of 1899, 33 U.S.C. 403 (“RHA”), to obtain injunctive relief from and impose civil penalties against the Defendants for filling wetlands on their property without a permit and for installing bank stabilization and boat docks in the Fox River without a permit.

The proposed Consent Decree prohibits mowing, cutting, clearing, cultivating, dredging, excavating, farming, filling, dewatering, draining or otherwise disturbing in any manner whatsoever the wetland impact area, and requires removal of all fill material from the wetland impact area, removal of a portion of the bank stabilization, restoration of the filled wetland areas, and requires payment of a civil penalty.

The Department of Justice will accept written comments relating to this proposed Consent Decree for thirty (30) days from the date of publication of this notice. Please address comments to Kurt Lindland, Assistant United States Attorney, United States Attorney's Office, 5th Floor, 219 S. Dearborn Street, Chicago, Illinois 60604 and refer to United States v. Stephen Jacobs and Doug Steve, including the USAO #2002V01900.

The proposed Consent Decree may be examined at the Clerk's Office, United States District Court for the Northern District of Illinois, 219 S. Dearborn Street, Chicago, Illinois. In addition, the proposed Consent Decree may be viewed on the World Wide Web at http://www.usdoj.gov/enrd/open.html.

Kurt N. Lindland,
Assistant United States Attorney.

[FR Doc. 03-21920 Filed 8-26-03; 8:45 am]

BILLING CODE 4410-15-M